DEPARTMENT OF COMMERCE

National Oceanic and Atmospheric Administration

RIN 0648-XF824

Western Pacific Fishery Management Council; Public Meeting

AGENCY: National Marine Fisheries Service (NMFS), National Oceanic and Atmospheric Administration (NOAA), Commerce.

ACTION: Notice of a public meeting and hearing.

SUMMARY: The Western Pacific Fishery Management Council (Council) will hold Hawaii Regional Ecosystem Advisory Committee (REAC) meeting to discuss and make recommendations on fishery management issues in the Western Pacific Region.

DATES: The Hawaii REAC will meet on Friday, December 1, 2017, between 9 a.m. and 4 p.m. Hawaii Standard Time. For specific times and agendas, see SUPPLEMENTARY INFORMATION.

ADDRESSES: The Hawaii REAC meeting will be held at the Council office, 1164 Bishop St., Suite 1400, Honolulu, HI 96813 and by teleconference and webinar. The teleconference will be conducted by telephone and by web. The teleconference numbers are U.S. toll-free: 1-888-482-3560 or International Access: +1 647 723-3959, and Access Code: 5228220. The webinar can be accessed at: https://wprfmc.webex.com/join/info.wpcouncilnoaa.gov.

FOR FURTHER INFORMATION CONTACT: Kitty M. Simonds, Executive Director, Western Pacific Fishery Management Council; telephone: (808) 522-8220.

SUPPLEMENTARY INFORMATION: Public comment periods will be provided in the agenda. The order in which agenda items are addressed may change. The meetings will run as late as necessary to complete scheduled business.

Schedule and Agenda for the Hawaii REAC Meeting

Friday, December 1, 2017, 9 a.m.—4 p.m.

1. Welcome and Introductions

2. Essential Fish Habitat (EFH)

A. Update on Habitat Program

B. Review of Non-Fishing Impacts to EFH

C. Precious Coral EFH Review

3. Aquaculture Management

4. Public Comment

5. Other Business

6. Discussion and Recommendations

Special Accommodations

The meeting is physically accessible to people with disabilities. Requests for sign language interpretation or other auxiliary aids should be directed to Kitty M. Simonds, (808) 522-8220 (voice) or (808) 522-8226 (fax), at least 5 days prior to the meeting date.

Authority: 16 U.S.C. 1801 et seq.

Dated: November 14, 2017.
Tracey L. Thompson,
Acting Deputy Director, Office of Sustainable Fisheries, National Marine Fisheries Service.

[FR Doc. 2017-24960 Filed 11-16-17; 8:45 am]

BILLING CODE 3510-22-P